DEPARTMENT OF ENERGY

Federal Energy Regulatory Commission

[Docket No. AD20-20-000]

Notice of Availability of Draft Engineering Guidelines for the Evaluation of Hydropower Projects: Chapter 15—Supporting Technical Information Document and Request for Comments

The staff of the Office of Energy Projects (OEP) has drafted its initial version of Chapter 15—Supporting Technical Information Document of its Engineering Guidelines for the Evaluation of Hydropower Projects (Guidelines). This chapter will supersede the portions of Chapter 14—Dam Safety Performance Monitoring Program that pertain to the Supporting Technical Information Document, and is one of four draft chapters intended to provide additional guidance related to the notice of proposed rulemaking issued by the Commission in Docket No. RM20-9-000. Please note that any comments on the proposed rulemaking or on draft chapters of the Guidelines other than Chapter 15 should be filed in the corresponding docket number.¹

¹ The Commission is concurrently issuing for public comment four draft chapters of the Guidelines in Docket Nos. AD20-20-000 (Chapter 15—Supporting Technical Information Document), AD20-21-000 (Chapter 16—Part 12D Program), AD20-22-000 (Chapter 17—Potential Failure Mode Analysis), and AD20-23-000 (Chapter 18—Level 2 Risk Analysis).

Comments are now requested on the draft Chapter 15—Supporting Technical Information Document from federal and state agencies, licensees whose projects are subject to Part 12, Subpart D of the Commission's regulations, independent consultants and inspectors, and other interested parties with special expertise with respect to dam safety. Comments are due 60 days from the date of this Notice.

Interested parties can help us determine the appropriate updates and improvements by providing: Meaningful comments or suggestions that focus on the specific sections requiring clarification; updates to reflect current laws and regulations; or improved measures and best practices for compiling and storing project records in physical and electronic formats. The more specific your comments, the more useful they will be. A detailed explanation of your submissions and/or any references of scientific studies associated with your comments will greatly help us with this process. We will consider all timely comments on the revised Guidelines before issuing the final version.

For your convenience, there are three methods which you can use to submit your comments to the Commission. In all instances please reference the docket number (AD20-20-000) on the first page of your submission. The Commission strongly encourages electronic filing.

(1) You can file your comments electronically using the eComment feature on the Commission's website (www.ferc.gov). Select the FERC Online option from the left-hand column and click on eComment. This is an easy method for interested persons to submit brief, text-only comments up to 6,000 characters. You must include your name and contact information at the end of your comments.

(2) You can file your comments electronically using the eFiling feature on the Commission's website (www.ferc.gov). Select the FERC Online option from the left-hand column and click on eFiling. With eFiling, you can provide comments in a variety of formats by attaching them as a file with your submission. New eFiling users must first create an account by clicking on eRegister. When selecting the filing type, select General, then choose Comment (on Filing, Environ. Report or Tech Conf).

(3) In lieu of electronic filing, you can mail a paper copy of your comments to: Federal Energy Regulatory Commission, Secretary of the Commission, 888 First Street NE, Washington, DC 20426. Hand-delivered comments, or those delivered by carriers/couriers other than the US Postal Service, should be delivered to Health and Human Services, 12225 Wilkins Avenue, Rockville, Maryland 20852.

All information related to Chapter 15—Supporting Technical Information Document, including the draft chapter and all submitted comments, can be found on the FERC website (www.ferc.gov) using the eLibrary link. Click on the eLibrary link, click on General Search and enter the docket number, excluding the last three digits in the Docket Number field (i.e., AD20-20). Be sure you have selected an appropriate date range. The Commission also offers a free service called eSubscription which allows you to keep track of all formal issuances and submittals in specific dockets. This can reduce the amount of time you spend researching proceedings by automatically providing you with electronic notification of these filings and direct links to the documents. Go to the Commission's website (www.ferc.gov), select the FERC Online option from the left-hand column, and click on eSubscription. Users must be registered in order to use eSubscription.

Information Collection Statement

The proposed Guidelines include information collection activities for which the Paperwork Reduction Act ² requires approval by the Office of Management and Budget (OMB). The Commission has included the burden and cost estimates for information collection activities in these Guidelines in the Notice of Proposed Rulemaking titled, Safety of Water Power Projects and Project Works (Docket No. RM20-9-000). The Commission has designated the information collection activities in the proposed rule and in the Guidelines as FERC-517. Upon approval of FERC-517, OMB will assign an OMB Control Number and expiration date.

² 44 U.S.C. 3501-3521.

If you would like to submit comments on the information-collection aspects (such as burden, cost, need for the data, and frequency of reporting or recordkeeping) of the proposed Guidelines, please submit them to: Office of Information and Regulatory Affairs, Office of Management and Budget [Attention: Federal Energy Regulatory Commission Desk Officer]. Due to security concerns, comments should be sent directly to www.reginfo.gov/public/do/PRAMain. Comments submitted to OMB should be sent within 60 days of publication of this notice in the Federal Register and refer to FERC-517 and OMB Control No. 1902-TBD.

Please submit to the Commission copies of comments concerning the collection of information and the associated burden estimates (identified by Docket Nos. RM20-9-000 and AD20-20-000) by any of the three methods listed above.

For assistance with filing or any of the Commission's online systems, please contact FERC Online Support at FercOnlineSupport@ferc.gov or toll free at (866) 208-3676, or for TTY, contact (202) 502-8258.

Dated: July 16, 2020.
Nathaniel J. Davis, Sr.,
Deputy Secretary.

[FR Doc. 2020-15868 Filed 7-23-20; 8:45 am]

BILLING CODE 6717-01-P